DEPARTMENT OF VETERANS AFFAIRS

[OMB Control No. 2900-0149]

Agency Information Collection Activity Under OMB Review: Application for Conversion

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments and recommendations for proposed information collections should be sent within 30 days to http://www.reginfo.gov/public/do/PRAMain, select “Currently under Review—Open for Public Comments”, then search the list for the information collection by Title or “OMB Control No. 2900-0149.”

FOR FURTHER INFORMATION CONTACT: VA PRA information: Maribel Aponte, (202) 461-8900, vacopaperworkreduact@va.gov.

SUPPLEMENTARY INFORMATION:

Title: Application for Conversion, VA Form 29-0152.

OMB Control Number: 2900-0149 https://www.reginfo.gov/public/do/PRASearch.

Type of Review: Extension of a previously approved collection.

Abstract: This form is used by Veterans to convert to a permanent plan of insurance. The information on the form is required by law, U.S.C. 1904 and 1942.

An agency may not conduct or sponsor, and a person is not required to respond to a collection of information unless it displays a currently valid OMB control number. The Federal Register Notice with a 60-day comment period soliciting comments on this collection of information was published at 89 FR 23087, April 3, 2024, pages 23087-23088.

Affected Public: Individuals or Households.

Estimated Annual Burden: 1,125.

Estimated Average Burden per Respondent: 15 minutes.

Frequency of Response: Once.

Estimated Number of Respondents: 4,500.

Authority: 44 U.S.C. 3501 et seq.

Maribel Aponte,
VA PRA Clearance Officer, Office of Enterprise and Integration, Data Governance Analytics, Department of Veterans Affairs.

[FR Doc. 2024-12640 Filed 6-7-24; 8:45 am]

BILLING CODE 8320-01-P